DEPARTMENT OF THE INTERIOR

Bureau of Land Management

[MT-090-1430-ET; WYW 88887]

Public Land Order No. 7691; Extension of Public Land Order No. 6665; Wyoming

AGENCY: Bureau of Land Management, Interior.

ACTION: Public Land Order.

SUMMARY: This order extends the withdrawal created by Public Land Order No. 6665 for an additional 20-year period. This extension is necessary to continue protection of the Bureau of Land Management's Britton Springs Administrative Site and Crooked Creek Natural Area in Big Horn County, Wyoming which would otherwise expire on March 6, 2008.

EFFECTIVE DATE: March 7, 2008.

FOR FURTHER INFORMATION CONTACT: Janice MaChipiness, Bureau of Land Management, Billings Field Office, 5001 Southgate Drive, Billings, Montana 59101-4669, (406) 896-5263, or Sandra Ward, Bureau of Land Management, Montana State Office, 5001 Southgate Drive, Billings, Montana 59101-4669, (406) 896-5052.

SUPPLEMENTARY INFORMATION: The withdrawal extended by this order will expire March 6, 2028, unless, as a result of a review conducted prior to the expiration date pursuant to section 204(f) of the Federal Land Policy and Management Act of 1976, 43 U.S.C. 1714(f) (2000), the Secretary determines that the withdrawal shall be further extended. Although the lands are located in Wyoming, they are administered by the Bureau of Land Management Montana State Office.

Order

By virtue of the authority vested in the Secretary of the Interior by Section 204 of the Federal Land Policy and Management Act of 1976, 43 U.S.C. 1714 (2000), it is ordered as follows:

Public Land Order No. 6665 (53 FR 7187 (1988)), which withdrew 180 acres of public lands from settlement, sale, location, or entry under the general land laws, including the United States mining laws, to protect the Crooked Creek Natural Area/National Natural Landmark and the Britton Springs Administrative Site, is hereby extended for an additional 20-year period until March 6, 2028.

Dated: February 29, 2008.
C. Stephen Allred,
Assistant Secretary, Land and Minerals Management.

[FR Doc. E8-4594 Filed 3-6-08; 8:45 am]

BILLING CODE 4310-$$-P